DEPARTMENT OF DEFENSE

Department of the Navy

Notice of Availability of Record of Decision for the Northwest Training and Testing Final Environmental Impact Statement/Overseas Environmental Impact Statement

AGENCY: Department of the Navy, DoD.

ACTION: Notice.

SUMMARY: The Department of the Navy (DoN), after carefully weighing the strategic, operational, and environmental consequences of the proposed action, announces its decision to continue and enhance training activities as identified in Alternative 1 in the Northwest Training and Testing Final Environmental Impact Statement/Overseas Environmental Impact Statement. This alternative includes adjustments to existing training and testing activities, new training and testing activities to support future requirements, and activities not previously analyzed, such as pierside sonar maintenance and testing. Implementation of Alternative 1 will enable the DoN to achieve the levels of operational readiness required under Section 5062 Title 10 U.S.C. without resulting in significant environmental impacts.

SUPPLEMENTARY INFORMATION: The complete text of the Record of Decision is available at http://nwtteis.com. Single copies of the Record of Decision are available upon request by contacting: NWTT EIS/OEIS Project Manager, Naval Facilities Engineering Command Northwest, 1101 Tautog Circle, Suite 203, Silverdale, Washington, 98315-1101.

Dated: October 31, 2016.
C. Mora,
Commander, Judge Advocate General's Corps, U.S. Navy, Federal Register Liaison Officer.

[FR Doc. 2016-26685 Filed 11-3-16; 8:45 am]

BILLING CODE 3810-FF-P